DEPARTMENT OF COMMERCE

National Oceanic and Atmospheric Administration

[RTID 0648-XE631]

Public Meeting; Center of Independent Experts Review of the Machine Learning Coupled With Fourier Transform Near-Infrared Spectroscopy of Otoliths to Age Fish

AGENCY: National Marine Fisheries Service (NMFS), National Oceanic and Atmospheric Administration (NOAA), Commerce.

ACTION: Notice of hybrid meeting.

SUMMARY: The Center of Independent Experts (CIE) review of the Machine Learning Coupled with Fourier Transform Near-infrared Spectroscopy of Otoliths to Age Fish will be held February 11, 2025, through February 13, 2025.

DATES: The meeting will be held on Tuesday, February 11, 2025, through Thursday, February 13, 2025, from 9 a.m. to 5 p.m. Pacific Time.

ADDRESSES: The meeting will be a hybrid meeting. The in-person component of the meeting will be held at the Alaska Fisheries Science Center in room 2076, 7600 Sand Point Way NE, Building 4, Seattle, WA 98115. If you plan to attend in-person, please notify Derek Chamberlin at derek.chamberlin@noaa.gov at least 2 days prior to the meeting (or 2 weeks prior if you are a foreign national). You will also need a valid U.S. Identification Card. If you are attending virtually, join the meeting online through the link at https://apps-afsc.fisheries.noaa.gov/ftnir/.

FOR FURTHER INFORMATION CONTACT: Derek Chamberlin, Alaska Fishery Science Center staff; phone: (206) 526-4148; email: derek.chamberlin@noaa.gov.

SUPPLEMENTARY INFORMATION:

Agenda

Tuesday, February 11, 2025, Through Thursday, February 13, 2025

The CIE will conduct a review of the readiness of machine learning coupled with Fourier transform near-infrared spectroscopy of otoliths to age fish for stock assessments. The agenda is subject to change, and the latest version will be posted at https://apps-afsc.fisheries.noaa.gov/ftnir/ prior to the meeting, along with meeting materials.

Public Comment

An opportunity for public comment will be provided during the meeting. For more information, please visit the link at https://apps-afsc.fisheries.noaa.gov/ftnir/.

Special Accommodations

This meeting is physically accessible to people with disabilities. Special requests should be directed to Derek Chamberlin, via email (see FOR FURTHER INFORMATION CONTACT).

Authority: 16 U.S.C. 1801 et seq.

Dated: January 27, 2025.
Karen H. Abrams,
Acting Director, Office of Sustainable Fisheries, National Marine Fisheries Service.

[FR Doc. 2025-02023 Filed 1-30-25; 8:45 am]

BILLING CODE 3510-22-P